DEPARTMENT OF HEALTH AND HUMAN SERVICES

Centers for Disease Control and Prevention

[30Day-16-15XT]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Enhancing Mine Workers' Abilities to Identify Hazards at Sand, Stone, and Gravel Mines—New—National Institute for Occupational Safety and Health (NIOSH), Centers for Disease Control and Prevention (CDC).

Background and Brief Description

According to the Mine Safety and Health Administration (MSHA), 37 mine workers were fatally injured in accidents that occurred at metal and nonmetal mine sites between October, 2013, and January, 2015 (MSHA, 2015). By contrast, prior to October, 2013, metal and nonmetal mining had experienced several years of record lows for number of fatalities (2012: 16 and 2011: 16). Yet, in 2014 alone, 29 mine workers were fatally injured at a metal or nonmetal mine site, and half of these fatalities (52%) occurred at a surface stone, sand, or gravel (SSG) mine.

It is critical that all miners be able to both recognize worksite hazards and accurately assess the risk associated with these hazards, because their health and safety depends on their deciding whether and how to remove hazards and mitigate risks.

In order to study how SSG mine workers' search for, find, and understand the risk associated with mine site hazards, a laboratory based quasi-experimental research study will be conducted. Over the two-year period of the study, a total of 85 respondents (45 mine workers, 20 safety professionals, and 20 students) will complete the pre-screening questionnaire. Each participant will be asked to complete each form one time. The pre-screening questionnaire will be used to determine which potential participants qualify to take part in the study. This questionnaire will be completed prior to the laboratory task and should take approximately 15 minutes for each respondent to complete. It is anticipated that at least 72% of the participants who are contacted will qualify and take part in the study. Therefore, a total of 62 respondents will take part in the study—30 mine workers, 16 safety professionals, and 16 mining students. We are interested in how experience (e.g., work experience, hazard recognition training experience, etc.) affects hazard recognition abilities.

The laboratory study will be completed first. Participants will be shown panoramic images of typical locations at a surface stone mine site. There will be a number of hazards included in each image. The participant will be asked to search for and find the hazards. During the study, all 62 participants will be asked to search pictures. The participants will wear a light weight eye-tracking system so that eye-movements can be collected and search patterns can be mapped during analysis to determine differences based on level of experience. Identification accuracy will also be collected to determine whether level of experience affects the number of hazards identified.

After the laboratory study is complete, all 62 respondents will complete the demographic questionnaire. This should take approximately six minutes for each respondent to complete. All 62 respondents will then complete the Risk Assessment Measure (time to complete, 20 minutes), the Risk Propensity Scale (time to complete, 6 minutes), the Mine Specific Risk Tolerance Measure (time to complete, 6 minutes), and the Open-ended Questions (time to complete, 30 minutes).

Estimated Annualized Burden Hours
Type of respondent | Form name | Number of respondents | Number responses per respondent | Average burden per response (in hours)
Mine Employee | Prescreening Questionnaire | 23 | 1 | 15/60
Safety Professional |  | 10
Student |  | 10
Mine Employee | Demographic Questionnaire | 15 | 1 | 6/60
Safety Professional |  | 8
Student |  | 8
Mine Employee | Experimental Task | 15 | 1 | 1
Safety Professional |  | 8
Student |  | 8
Mine Employee | Risk Assessment Measure | 15 | 1 | 20/60
Safety Professional |  | 8
Student |  | 8
Mine Employee | Risk Propensity Scale | 15 | 1 | 6/60
Safety Professional |  | 8
Student |  | 8
Mine Employee | Mine Specific Risk Tolerance Measure | 15 | 1 | 6/60
Safety Professional |  | 8
Student |  | 8
Mine Employee | Open Ended Questions | 15 | 1 | 30/60
Safety Professional |  | 8
Student |  | 8

Leroy A. Richardson,
Chief, Information Collection Review Office Office of Scientific Integrity Office of the Associate Director for Science Office of the Director Centers for Disease Control and Prevention.

[FR Doc. 2016-05358 Filed 3-9-16; 8:45 am]

BILLING CODE 4163-18-P